DEPARTMENT OF TRANSPORTATION

National Highway Traffic Safety Administration

[Docket No. NHTSA-00-7638]

NHTSA's Recommendations for Global Technical Regulations Under the United Nations/Economic Commission for Europe 1998 Global Agreement; Motor Vehicle Safety

AGENCY: National Highway Traffic Safety Administration (NHTSA), Department of Transportation.

ACTION: Request for comments.

SUMMARY: In anticipation of the entry into force of the United Nations/Economic Commission for Europe 1998 Global Agreement, NHTSA seeks public comments on its preliminary recommendations for the first motor vehicle safety technical regulations to be considered for establishment under that Agreement.

DATES: Written comments may be submitted to this agency and must be received by September 1, 2000.

ADDRESSES: You may submit your comments in writing to: Docket Management, Room PL-401, 400 Seventh Street, SW., Washington, DC, 20590. Alternatively, you may submit your comments electronically by logging onto the Docket Management System website at http://dms.dot.gov. Click on “Help & Information” or “Help/Info” to view instructions for filing your comments electronically. Regardless of how you submit your comments, you should mention the docket number of this document.

FOR FURTHER INFORMATION CONTACT: For technical and policy issues: Ms. Julie Abraham, Director, Office of International Policy and Harmonization, National Highway Traffic Safety Administration, 400 Seventh Street, SW, Washington, DC 20590. Telephone: (202) 366-2114. Fax: (202) 366-2559.

For legal issues: Nancy Bell, Attorney Advisor, Office of the Chief Counsel, NCC-20, National Highway Traffic Safety Administration, 400 Seventh Street, SW, Washington, DC 20590. Telephone: (202) 366-2992. Fax: (202) 366-3820.

SUPPLEMENTARY INFORMATION: You may read the materials placed in the docket for this notice (e.g., the comments submitted in response to this notice by other interested persons) by visiting the address given above under ADDRESSES. The hours of the Docket Management System (DMS) are indicated above in the same location.

You may also read the materials on the Internet. To do so, take the following steps:

(1) Go to the Web page of the Department of Transportation DMS (http://dms.dot.gov/).

(2) On that page, click on “search” near the top of the page or scroll down to the words “Search the DMS Web” and click on them.

(3) On the next page (http://dms.dot.gov/search/), scroll down to “Docket Number” and type in the four-digit docket number (7638) shown in the title at the beginning of this notice. After typing the docket number, click on “search.”

(4) On the next page (“Docket Summary Information”), which contains docket summary information for the materials in the docket you selected, scroll down to “search results” and click on the desired materials. You may download the materials.

Table of Contents

I. Background

A. 1998 Global Agreement

B. Why NHTSA is Issuing this Request for Comments

II. NHTSA's Preliminary Recommendations for the Initial Subjects to be Considered under the 1998 Global Agreement

A. Priority Recommendations

B. Other Recommendations

III. Technical Regulations for Future Consideration by NHTSA

IV. Issues for Public Comment

V. Future Actions

I. Background

A. 1998 Global Agreement

On June 25, 1998, the U.S. became the first signatory to the United Nations/Economic Commission for Europe (UN/ECE) ¹ Agreement Concerning the Establishment of Global and Technical Regulations for Wheeled Vehicles, Equipment and Parts Which Can Be Fitted And/or Be Used On Wheeled Vehicles (the “1998 Global Agreement”). ² The 1998 Global Agreement provides for the establishment of global technical regulations regarding the safety, emissions, energy conservation and theft prevention of wheeled vehicles, equipment and parts. ³ The Agreement contains procedures for establishing global technical regulations by either harmonizing existing regulations or developing a new regulation.

¹ The Economic Commission for Europe was established by the United Nations (UN) in 1947 to help rebuild post-war Europe, develop economic activity and strengthen economic relations between European countries and between them and the other countries of the world.

² To aid persons unfamiliar with the 1998 Global Agreement in gaining an understanding of its provisions, this agency has summarized the key aspects in an appendix to this notice. The complete text of the Agreement may be found on the Internet at the following address: http://www.unece.org/trans/main/wp29/wp29wgs/wp29gen/wp29glob.html.

³ The covered equipment and parts include, but are not limited to, exhaust systems, tires, engines, acoustic shields, anti-theft alarms, warning devices and child restraint systems.

The establishment of global technical regulations is expected to lead to a significant degree of convergence in motor vehicle regulations at the regional and national levels. However, while in some instances the result may be the adoption of identical or substantially identical regulations at those levels, in other instances, the result may be regulations that differ but do not conflict with each other. While the Agreement obligates the Contracting Parties, under certain circumstances, to consider adopting the global technical regulations within their own jurisdictions, it does not obligate the Parties to adopt them. The Agreement recognizes that governments have the right to determine whether the global technical regulations established under the Agreement are suitable for their own particular safety needs. Those needs vary from country to country due to differences in the traffic environment, vehicle fleet composition, driver characteristics and seat belt usage rates. Further, the Agreement explicitly recognizes the right of governments to adopt and maintain technical regulations that are more stringently protective of health and the environment than the global technical regulations.

The Agreement was negotiated under the auspices of the UN/ECE's World Forum for Harmonization of Vehicle Regulations (WP.29) ⁴ under the leadership of the United States (U.S.), ⁵ the European Community (EC), and Japan. Becoming a Contracting Party to the 1998 Global Agreement accomplishes several purposes for the U.S. First, it provides the U.S. with a vote in the establishment of global technical regulations for wheeled vehicles, equipment and parts under the UN/ECE and enables the U.S. to take a leading role in effectively influencing the selection of the level of vehicle safety regulations world wide. ⁶ Second, it ensures that U.S. standards and their benefits will be properly considered in any effort to adopt a harmonized global technical regulation.

⁴ Formerly, “Working Party on the Construction of Vehicles (WP.29)”.

⁵ The U.S. was represented in those negotiations by this agency and the U.S. Environmental Protection Agency (EPA).

⁶ The U.S. does not have a vote under an existing earlier UN/ECE agreement regarding wheeled vehicles, equipment and parts, known as the “1958 Agreement” because it is not a contracting party to that agreement. Historically, the United States did not become a contracting party to the 1958 Agreement because (1) it was not feasible to develop regulations regarding motor vehicle safety in what was then a primarily common European regulatory development forum and (2) NHTSA's enforcement procedures precluded the U.S. from engaging in the 1958 Agreement's mutual recognition obligations. Although the 1958 Agreement was amended in late 1995 to reduce the impediments to becoming a contracting party, the U.S. determined that further amendments were desirable. Ultimately, it determined in talks with the contracting parties to the 1958 Agreement that the most desirable course of action was to develop a new, parallel agreement.

B. Why NHTSA Is Issuing This Request for Comments

The 1998 Global Agreement is nearing entry into force. The Agreement provides that it will enter into force 30 days after the number of Contracting Parties ⁷ reaches eight. There are now seven Contracting Parties and an eighth country has signed the Agreement subject to ratification. ⁸

⁷ As used here and in the balance of this notice, “Contracting Parties” refers to Contracting Parties to the 1998 Global Agreement.

⁸ The first seven Contracting Parties are: Canada, the EC, France, Germany, Japan, United Kingdom, and the U.S. The Republic of South Africa has signed the Agreement subject to ratification. The Russian Federation reports that its signing of the Agreement is imminent.

In early 1999, NHTSA began making preparations for the 1998 Global Agreement's entry into force by issuing a notice requesting public comments on a draft policy statement describing the agency's activities and practices for facilitating public participation with respect to motor vehicle safety issues that arise in the implementation of the Agreement. ⁹ The draft statement also set forth the general substantive policy goals regarding vehicle safety that the agency will pursue in participating in the implementation of the agreement. Those goals are: (a) Advance vehicle safety by identifying the best safety practices among the safety standards from around the world and incorporating those practices into the U.S. standards or by developing and adopting new standards reflecting anticipated technological advances and current and anticipated safety problems, ¹⁰ (b) preserve the agency's ability to adopt standards that meet U.S. vehicle safety needs, and (c) harmonize the U.S. safety standards with those of other countries to the extent consistent with maintaining or improving existing levels of motor vehicle safety in the U.S. NHTSA will issue a final version of the policy statement shortly.

⁹ Draft NHTSA statement of policy concerning the agency's goals in the implementation of the 1998 Global Agreement. (January 5, 1999; 64 FR 563)

¹⁰ For example, if the U.S. examined its standard and those of other countries addressing a particular safety problem and concluded that the standard of country A represented best safety practices, i.e., produced more safety benefits than all the other counterpart standards, the U.S. would propose to raise its standard to the level of country A's standard. Consideration of anticipated technological advances and current and anticipated safety problems might lead the U.S. to propose to raise its standard even higher.

Now that the Agreement's entry into force appears imminent, NHTSA is issuing this notice to obtain public comments on a list of preliminary recommendations of standards or aspects of standards for consideration by the Contracting Parties in prioritizing the development and establishment of global technical regulations under the Agreement. The agency believes that the recommendations will serve the interest of improving motor vehicle safety in the U.S. They will also help to carry out the 1998 Global Agreement's goal of continuously improving and seeking high levels of safety around the world. In turn, accomplishing that goal will promote the development of new and/or better U.S. standards, thus leveraging NHTSA's resources available for such development.

NHTSA cautions that its list of preliminary recommendations for the initial priorities under the 1998 Global Agreement should not be mistaken for the much more inclusive list of its activities under the former National Traffic and Motor Vehicle Safety Act, 49 U.S.C. 30101 et seq. (“the Vehicle Safety Act”).

Based on available information and analysis concerning the relative level of stringency and benefits of U.S. and foreign standards and regulations, NHTSA has placed its preliminary recommendations into two categories: (1) Priority recommendations, and (2) Other recommendations.

The “priority recommendations” category includes some foreign standards or aspects of those standards that may represent best current safety practices among the existing national and regional standards and should therefore be considered by the Contracting Parties when establishing global technical regulations.¹¹ If those standards or aspects of standards do, in fact, represent best practices, their addition to the U.S. standards would improve vehicle safety in the U.S.¹² In allocating its resources among its preliminary recommendations, the agency will give priority to the recommendations in this category. If NHTSA's research and analysis indicates that a foreign standard, in whole or in part, is indeed more beneficial to safety, the agency anticipates that it will propose under the Vehicle Safety Act to raise its standards at least to the level of that foreign standard.¹³ The standards in this category were largely drawn from NHTSA's ongoing upward harmonization activities under the Vehicle Safety Act.

¹¹ NHTSA wants to emphasize that neither the list in this category nor the list in the second category is exhaustive. The purpose in developing these lists is not to provide a complete census of all standards or aspects of standards that may represent best practices. Instead, the purpose is to provide recommendations regarding a limited number of standards on which the Contracting Parties should initially focus their efforts.

¹² Whether a standard or aspect of a standard actually represents best practices is best determined through analysis of real world crash data and research data.

¹³ During the development of all proposals and during WP.29 proceedings, best available technology and future technology will be considered.

The “other recommendations” category includes some U.S. standards or aspects of those standards that appear to represent best current safety practices and should therefore be considered by the Contracting Parties when establishing global technical regulations. NHTSA would like to obtain international review and feedback concerning these U.S. standards. Such feedback and review may lead to improvements in the U.S. standards. Further, the agency believes that it is important to ensure that global technical regulations are established at levels not less than those of the U.S. standards. The standards in this category were selected largely because they address safety problems that are the subject of either NHTSA's ongoing upward harmonization activities under the Vehicle Safety Act or WP.29's ongoing activities.

In anticipation of the 1998 Global Agreement's entry into force, interest groups and other governments have also begun to make recommendations concerning vehicle safety priorities for harmonization activities under the Agreement. At the 120th Session of WP.29 in March 2000, the U.S. and other Contracting Parties were asked to develop their own recommendations. We have placed a document in the docket for this notice, entitled “Summary of Suggestions by the Governments of Japan and the Russian Federation and by Various Industry and Consumer Groups for Technical Regulations to be Established under 1998 Global Agreement.” The documents from which those suggestions were drawn have also been placed in the docket for this notice.

II. NHTSA's Preliminary Recommendations for the Initial Subjects To Be Considered Under the 1998 Global Agreement

A. Priority Recommendations

Head Restraints: NHTSA received a petition from the former American Automobile Manufacturers Association (AAMA) and the Association of International Automobile Manufacturers (AIAM) requesting that NHTSA recognize the ECE head restraint standard as functionally equivalent to the U.S. head restraint standard (Federal Motor Vehicle Safety Standard (FMVSS) No. 202). Based on the agency's comparison of the dimensional requirements of the standards, the ECE standard appears to be more stringent in several important respects. NHTSA intends to propose upgrading the U.S. head restraint standard to at least the level of the ECE standard.

Steering column movement: Currently, the ECE regulation limits rearward and vertical movement of the steering column, while the U.S. standard (FMVSS No. 204) limits rearward movement only. Vertical displacement and misalignment of the steering wheel may result in head, upper chest and abdominal injuries. NHTSA has begun studying the safety consequences of rearward and vertical displacement as part of its offset frontal crash test evaluation program. (See the next entry entitled “Frontal offset.”)

Frontal offset: NHTSA believes that the use of a full frontal crash test, supplemented by a frontal offset crash test, would enhance the safety of all passengers. The full frontal crash test requirements have led to significant reductions in head, neck and chest injuries, while frontal offset crash test requirements are expected to reduce lower extremity injuries.

In fiscal years 1996 and 1997, Congress provided NHTSA with funds to be used toward establishing a U.S. standard for frontal offset crash testing. It directed NHTSA to work with interested parties, including the automotive industry, to develop such a standard under established rulemaking procedures and further stated that these activities should reflect ongoing efforts to enhance international harmonization of safety standards. NHTSA has been evaluating the European offset test and plans to propose a high speed belted offset test with a fixed deformable barrier as a supplement to its existing full frontal test. A lower speed offset requirement (i.e., 40 kmph) already has been incorporated as part of the agency's advanced air bag final rule issued in May 2000. That test is intended to ensure that crash sensors work properly in offset crashes.

Dummy (10 year old child): Currently, the largest dummy specified in the ECE child restraint regulation is a 10 year old dummy, while the largest child dummy specified in the U.S. child restraint standard (FMVSS No. 213) is a 6 year old dummy. A 10 year old dummy represents children weighing 70-75 lb., while a 6 year old dummy represents children weighing about 50 lb. NHTSA's addition of a 10 year old dummy to FMVSS No. 213 would allow it to assess the safety of 70-75 lb. children restrained in lap/shoulder belt with or without a booster seat, as well as in belt positioning devices that are marketed for use by older children and small-statured adults. The addition of that dummy to the U.S. occupant protection (air bags and seat belts) standard (FMVSS No. 208) could also aid in minimizing the risk of air bag-induced injuries to children in that weight range.

Side impact dummy (SID): In 1996, Congress instructed NHTSA to develop a plan to harmonize the U.S. side impact standard and the ECE side impact regulation. In 1997, NHTSA received a petition from AAMA, AIAM and the Insurance Institute for Highway Safety to recognize the ECE regulation as functionally equivalent to the U.S. standard (FMVSS No. 204). NHTSA has recently denied the petition based on test results and analyses (May 24, 2000; 65 FR 33508). However, in its denial, as well as its report to Congress, NHTSA stated that it will consider proposing to adopt EuroSID-2, a modified version of the ECE dummy, EuroSID-1, and the ECE injury assessment criteria.¹⁴ The EuroSID-2 measures the potential for injury not only to the same portions of body measured by the U.S. dummy, but also to portions (i.e., head, upper neck and abdomen) that the U.S. dummy does not measure.

¹⁴ “Status of NHTSA Plan for Side Impact Regulation Harmonization and Upgrade, Report to Congress, March 1999.” See Docket No. NHTSA-98-3935-10.

Car tires: The Rubber Manufacturers Association and five other tire industry organizations from around the world petitioned NHTSA to amend the U.S. standard (FMVSS No. 109) to adopt a standard, Global Tire Standard 2000, which was agreed upon by the tire industry worldwide. The same proposal was submitted to WP.29 for consideration as a global regulation. The agency considers tire harmonization to be a priority because FMVSS No. 109, which was developed primarily for bias-ply tires, needs to be updated and upgraded for radial tires. The agency also believes that certain test requirements in other national standards are more appropriate for radial tires and that their adoption would be an improvement over the bias-ply tire provisions in the U.S. standard. The goal is to harmonize the performance requirements of tires by adopting best practices in national tire standards from around the world and, to the extent that supporting data are available, improve those practices.

Signal lamp visibility: The ECE lighting performance requirements are set forth in several different regulations. We are seeking to harmonize the ECE regulations and any other national regulations regarding signal lamp visibility with the counterpart provisions in the U.S. standard on lighting (FMVSS No. 108).

NHTSA has issued a notice for proposed rulemaking (NPRM) based on the ECE requirements for signal lamp visibility. The agency initiated this rulemaking in response to a petition by Working Party “Brussels 1952” (also known as Groupes Travails Bruxelles (GTB)), a association of lighting and vehicle manufacturers' technical experts, requesting that the U.S. adopt more objective lamp visibility requirements. The geometric visibility angles for some lamps are greater under the ECE regulation. The proposal uses the area measurement method for determining signal visibility as contained in the current U.S. standard and, as an alternative, the light intensity measurement of the ECE regulation. The proposal also includes specified angles for viewing locations that are specified only in the ECE regulation. The adoption of this proposal would improve enforceability through increasing objectivity and improve safety through increasing the visibility of some lamps.

Vehicle classification: Vehicle classification is a fundamental issue because it affects the applicability of all safety standards and regulations. A significant difference in classification is that vans and sport utility vehicles are classified as passenger cars in many countries, but as multipurpose passenger vehicles in the U.S. and Canada.

In response to a submission by Japan, the Administrative Committee of WP.29 agreed during the 121st Session of WP.29 in July 2000 that an informal group should be established under the Working Party on General Safety Provisions for the purpose of developing common definitions of vehicle classes and vehicle mass and dimensions for vehicle safety purposes. The Committee agreed further that the group should be chaired by Japan. One possible outcome of revising the definitions would be to increase the extent to passenger carrying vehicles are regulated in similar ways.

B. Other Recommendations

Upper interior impact protection: WP.29 is contemplating the possibility of updating the ECE head impact regulation. Thus, the opportunity exists for developing a harmonized global regulation. The development of such a regulation should reflect due consideration of NHTSA activity in this area in the mid-1990's. NHTSA upgraded the U.S. interior impact protection standard (FMVSS No. 201) in 1995 by adding performance requirements for the upper interior of vehicles. The standard utilizes an up-to-date free motion headform that is propelled into various interior target locations at various angles. The standard was later amended to incorporate a side impact pole test in order to allow and/or encourage inflatable devices that provide superior head protection.

Full frontal crash test: For the reasons stated above, NHTSA believes that the safety of all passengers would be enhanced by assessing the protection provided to both 50th percentile adult male dummies and 5th percentile adult female dummies in a full frontal crash test, and a supplementary frontal offset crash test. NHTSA notes that the ECE regulations do not currently specify a full frontal crash test. Further, the ECE offset crash test regulation does not assess the protection of 5th percentile adult female dummies and does not assess the risks posed by air bags to either those dummies or child dummies.

Lower anchors and tethers for children: The U.S. standard (FMVSS No. 225) requires a new, dedicated system of anchorages for securing child restraints in motor vehicles. The system consists of two anchorages in the vehicle seat bight (i.e., the area where the seat back and the seat cushion meet) and a top tether. ¹⁵ The U.S. strength requirements differ from the International Organization for Standardization (ISO) ¹⁶ requirements for lower anchorages and the Canadian requirements for tethers. This is because the U.S. requirements are intended to protect children who weigh up to 50 pounds, while both the ISO and Canadian requirements are based on a 3 year old, 33-pound child. Further, new child seats have recently been marketed for use to restrain children weighing up to 65 pounds. NHTSA has made efforts to ensure that the requirements in the U.S. standard are objective and meet the need to protect those larger children. For example, NHTSA specified the failure of an anchorage in terms of a measurable displacement instead of a subjective criterion such as whether the anchorage “withstands” a specified force.

¹⁵ Each lower anchorage will include a rigid round rod or “bar” unto which a hook, a jaw-like buckle or other connector can be snapped. The upper anchorage will be a ring-like object to which the upper tether of a child restraint system can be attached.

¹⁶ The International Standards Organization (ISO) is a non-governmental, worldwide federation of national standards bodies from approximately 130 countries. (http://www.iso.ch/) It was established in 1947. Its mission is to promote the development of standardization and related activities in the world with a view to facilitating the international exchange of goods and services, and to developing cooperation in the spheres of intellectual, scientific, technological and economic activity. Its work is carried out through a hierarchy of technical committees, subcommittees, and working groups.

WP.29 is currently working on upgrading the ECE child restraint regulation and is leaning toward adopting slightly different bars and using legs, i.e., braces extending between the lower front of the child restraint and the vehicle floor, instead of tethers. Working with WP.29 at this stage will minimize divergences in the U.S. standard and the ECE regulations while ensuring that children worldwide receive the best protection possible.

Door retention components: The existing U.S. and foreign standards have been in place a long time. NHTSA has already begun work to upgrade the U.S. standard (FMVSS No. 206). Sharing this work with WP.29 and seeking comments at the outset about current and future best practices could eliminate potential future divergences and lead to a global technical regulation.

Fuel system integrity: The existing U.S. and foreign standards are, for the most part, similar and have been in place a long time. NHTSA has already begun work to upgrade the U.S. standard (FMVSS No. 301). Sharing this work with WP.29 and seeking comments at the outset about current and future best practices could eliminate potential future divergences and lead to a global technical regulation.

Controls and displays: No ECE regulation exists on this subject. Further, the European Union (EU) directive on this subject lacks many of the location and illumination requirements of the U.S. standard (FMVSS No. 101) and concentrates mainly on symbols. WP.29 is interested in developing an ECE regulation on controls and displays and has asked the U.S. and Canada to develop a draft harmonized standard that will incorporate control and display requirements currently in standards of other countries. The draft will include requirements regarding visibility, illumination and location of controls and displays, and will specify many standardized ISO symbols as mandatory or optional.

Area of windshield cleared by defrosters, defoggers, and windshield wipers: The agency was petitioned by the AAMA and AIAM to recognize the EU directive as functionally equivalent to the U.S. standards (FMVSS No. 103 and 104). Based on its assessment of the differences between the directive and standard, NHTSA denied the petition. The swept and cleared areas in the U.S. standards are greater that those in the EU directive. In its denial notice, NHTSA announced that it will seek a globally harmonized regulation under WP.29 that would include the larger swept and cleared areas under the U.S. standards. WP.29 is interested in establishing a global regulation on this subject.

III. Technical Regulations for Future Consideration by NHTSA

Under the International Harmonized Research Activities (IHRA), working groups have been formed to address specific issues. These six groups are: (1) Biomechanics, (2) Side Impact, (3) Advanced Offset Frontal Crash Protection, (4) Vehicle Compatibility, (5) Pedestrian Safety, and (6) Intelligent Transportation Systems. The working groups are comprised of government officials and of industry and other nongovernmental organization members nominated by their respective governments.

The following working groups are conducting research in areas that the NHTSA foresees contributing to future harmonization activity:

Side impact (side impact barrier and test procedure): The group is considering a proposal for a dynamic side crash test. The details of the test procedures are still under discussion. It is hoped that the quantified requirements that evolve will be flexible enough to allow the various countries to select requirements suited to their individual needs. Participating members of the working group will test vehicles to assess the validity of the proposed test procedures.

Advanced offset frontal crash: The working group's approach is to develop a fixed deformable barrier offset test for the near term, and for the long term to develop a test procedure based on the use of a moving deformable barrier. Major topics of discussion have included vehicle categories for consideration, type of barrier (rigid vs. deformable), impact speed, performance criteria, air bag performance, impact angle, and trolley characteristics.

Vehicle compatibility: The aim of this work is to develop internationally agreed upon test procedures designed to improve the compatibility of passenger car and light truck structures in front-to-front and in front-to-side impacts, thus enhancing the level of occupant protection in these crash modes. A concept for improved vehicle compatibility that has emerged from discussions to date involves limiting the amount of crush that the occupant compartment sustains while also limiting the magnitude and location of crash loading that a colliding vehicle can impose during a crash. Activities have been recently initiated by the working group members to explore this concept.

Pedestrian safety: The working group is assembling field data from the various countries into a unified database. Research priorities are being established based on these data, with the first priority given to head protection for both adults and children. Adult leg protection is also high on the priority list. Existing component level test procedures for head, leg, and thigh/pelvis are being examined for future harmonization efforts.

IV. Issues for Public Comment

To facilitate NHTSA's selection of the initial technical regulations to be recommended for development under the 1998 Global Agreement, NHTSA requests responses to the following questions. If you respond to any of the questions by suggesting changes to the agency's list of preliminary recommendations, we request that you support your suggestions with real world crash data and research data.

1. Should any changes be made to the agency's list of preliminary recommendations? If you believe that any changes should be made to the list, describe the changes and explain why they should be made.

For example, should the agency add to its list any other standards (e.g., brakes and lighting) on which significant amounts of time and resources have already been spent in an effort to update/upgrade and harmonize them? Should the agency add any of the standards that are being harmonized under an earlier agreement administered by WP.29 known as the “1958 Agreement”? ¹⁷

¹⁷ The full formal title of the 1958 Agreement is the “Agreement concerning the adoption of uniform technical prescriptions for wheeled vehicles, equipment and parts which can be fitted and/or be used on wheeled vehicles and the conditions for reciprocal recognition of approvals granted on the basis of these prescriptions.”

2. Should any of the standards or items listed in “Summary of Suggestions by the Governments of Japan and the Russian Federation and by Various Industry and Consumer Groups for Technical Regulations to be Established under 1998 Global Agreement” be added to the agency's list of preliminary recommendations? (As noted above, that document has been placed in the docket for this notice.) If so, explain why they should be added.

3. In the long term, what relationship should NHTSA establish between its rulemaking activities under the Vehicle Safety Act and WP.29's priority activities under the 1998 Global Agreement? To what extent, and how, should those two different sets of activities be linked so that both sets advance vehicle safety?

V. Future Actions

NHTSA will take all public comments into account and publish a revised list of recommendations. The agency will present its list to WP.29 in November and use it in deliberating with other Contracting Parties concerning the establishment of priorities under the 1998 Global Agreement.

Appendix—Highlights of the 1998 Global Agreement

• The Agreement establishes a global process under the United Nations, Economic Commission for Europe (UN/ECE), for developing and harmonizing global technical regulations ensuring high levels of environmental protection, safety, energy efficiency and anti-theft performance of wheeled vehicles, equipment and parts which can be fitted and/or be used on wheeled vehicles. Motor vehicle engines are included. (Preamble, Art. 1)

• Members of the ECE, as well as member countries of the United Nations that participate in certain ECE activities, are eligible to become Contracting Parties to the 1998 Global Agreement. Specialized agencies and organizations that have been granted consultative status may participate in that capacity. (Art. 2)

• The Agreement will enter into force when a minimum of eight (8) countries or regional economic integration organizations become Contracting Parties. At least one of the eight must be either the EC, Japan, or the U.S. (Art. 11)

• The Agreement explicitly recognizes the importance of continuously improving and seeking high levels of safety and environmental protection and the right of national and subnational authorities, e.g., California, to adopt and maintain technical regulations that are more stringently protective of health and the environment than those established at the global level. (Preamble)

• The Agreement explicitly states that one of its purposes is to ensure that actions under the Agreement do not promote, or result in, a lowering of safety and environmental protection within the jurisdiction of the Contracting Parties, including the subnational level. (Art. 1)

• To the extent consistent with achieving high levels of environmental protection and vehicle safety, the Agreement also seeks to promote global harmonization of motor vehicle and engine regulations. (Preamble)

• The Agreement recognizes that governments have the right to determine whether the global technical regulations established under the Agreement are suitable for their needs. (Preamble)

• The Agreement emphasizes that the development of global technical regulations will be transparent. (Art. 1)

Annex A provides that the term “transparent procedures” includes the opportunity to have views and arguments represented at:

(1) Meetings of Working Parties of Experts through organizations granted consultative status; and

(2) Meetings of Working Parties of Experts and of the Executive Committee (i.e., the Contracting Parties to the 1998 Global Agreement) through pre-meeting consulting with representatives of Contracting Parties.

• The Agreement provides two different paths to the establishment of global technical regulations. The first is the harmonization of existing standards. The second is the establishment of a new global technical regulation where there are no existing standards. (Article 6.2 and 6.3)

• The process for developing a harmonized global technical regulation includes a technical review of existing regulations of the Contracting Parties and of the UN/ECE regulations, as well as relevant international voluntary standards (e.g., standards of the International Standards Organization). If available, comparative assessments of the benefits of these regulations (also known as functional equivalence assessments) are also reviewed. (Art. 1.1.2, Article 6.2)

• The process for developing a new global technical regulation includes the assessment of technical and economic feasibility and a comparative evaluation of the potential benefits and cost effectiveness of alternative regulatory requirements and the test method(s) by which compliance is to be demonstrated. (Article 6.3)

• To establish any global technical regulation, there must be a consensus vote, i.e., all Contracting Parties present and voting must vote for establishment. Thus, if any Contracting Party votes against a recommended global technical regulation, it would not be established. (Annex B, Article 7.2)

• The establishment of a global technical regulation does not obligate Contracting Parties to adopt that regulation into its own laws and regulations. Contracting Parties retain the right to choose whether or not to adopt any technical regulation established as a global technical regulation under the Agreement. (Preamble, Article 7)

• Consistent with the recognition of that right, Contracting Parties have only a limited obligation when a global technical regulation is established under the Agreement. If a Contracting Party voted to establish the regulation, that Contracting Party must initiate the procedures used by the Party to adopt such a regulation as a domestic regulation. (Article 7)

For the U.S., this would likely entail initiating the rulemaking process by issuing an Advanced Notice of Proposed Rulemaking (ANPRM) or a Notice of Proposed Rulemaking (NPRM). If the U.S. were to adopt a global technical regulation into national law, it would do so in accordance with all applicable procedural and substantive statutory provisions, including the Administrative Procedure Act, 5 U.S.C. 553 et seq., the Vehicle Safety Act, and comparable provisions of other relevant statutes, such as the Clean Air Act.

• The Agreement allows the inclusion in global technical regulations of a “global” level of stringency for most parties and “alternative” levels of stringency for developing countries. In this way, all countries, including the developing ones, will have an interest in participating in the development, establishment, adoption and implementation of global technical regulations. It is anticipated that a developing country may wish to begin by adopting one of the lower levels of stringency and later successively adopt higher levels of stringency. (Article 4)

Issued on: July 12, 2000.
Julie Abraham,
Director, Office of Harmonization.

[FR Doc. 00-18130 Filed 7-17-00; 8:45 am]

BILLING CODE 4910-59-P